DEPARTMENT OF ENERGY

Federal Energy Regulatory Commission

[Project No. 3947-015]

Kaweah River Power Authority, Terminus Hydroelectric, LLC; Notice of Application for Transfer of License and Soliciting Comments, Motions To Intervene, and Protests

On February 4, 2020, Kaweah River Power Authority (transferor) and Terminus Hydroelectric, LLC (transferee) filed an application for the transfer of license of the Terminus Power Project No. 3947. The project is located on the Kaweah River in Tulare County, California and uses surplus water from the U.S. Army Corps of Engineer's Terminus Dam.

The applicants seek Commission approval to transfer the license for the Terminus Power Project from the transferor to the transferee.

Applicants Contact: For transferor: Mark Larsen, Kaweah River Power Authority, 2975 N Farmersville Blvd., Farmersville, CA 93223, Phone: (559) 747-5601, Email: Mlarsen@kdwcd.com Copy to: Andrew McClure, Minasian Law Firm, 1681 Bird St., Oroville, CA 95965, Phone: (530) 533-2885, Email: amcclure@minasianlaw.com.

For transferee: Joshua E. Adrian, Donald H. Clarke, Duncan, Weinberg, Genzer & Pembroke, P.C., 1667 K Street NW, Suite 700, Washington, DC 20006, Phone: (202) 467-6370, Email: jea@dwgp.com, dhc@dwgp.com.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3947-015.

Dated: February 24, 2020.
Kimberly D. Bose,
Secretary.

[FR Doc. 2020-04130 Filed 2-27-20; 8:45 am]

BILLING CODE 6717-01-P